DEPARTMENT OF COMMERCE

International Trade Administration

[C-533-902]

Organic Soybean Meal From India: Countervailing Duty Order

AGENCY: Enforcement and Compliance, International Trade Administration, Department of Commerce.

SUMMARY: Based on affirmative final determinations by the U.S. Department of Commerce (Commerce) and the U.S. International Trade Commission (ITC), Commerce is issuing the countervailing duty order on organic soybean meal from India.

DATES: Applicable May 16, 2022.

FOR FURTHER INFORMATION CONTACT: Chien-Min Yang, AD/CVD Operations, Office VII, Enforcement and Compliance, International Trade Administration, U.S. Department of Commerce, 1401 Constitution Avenue NW, Washington, DC 20230; telephone: (202) 482-5484.

SUPPLEMENTARY INFORMATION:

Background

In accordance with section 705(d) of the Tariff Act of 1930, as amended (the Act), on March 23, 2022, Commerce published its affirmative final determination in the countervailing duty investigation of organic soybean meal from India.¹ On May 5, 2022, the ITC notified Commerce of its affirmative final determination that an industry in the United States is materially injured within the meaning of section 705(b)(1)(A)(i) of the Act, by reason of subsidized imports of organic soybean meal from India.²

¹ See Organic Soybean Meal from India: Final Affirmative Countervailing Duty Determination, 87 FR 16453 (March 23, 2022).

² See ITC's Letter, “Notification of ITC Final Determination,” dated May 5, 2022.

Scope of the Order

The product covered by this order is organic soybean meal from India. For a complete description of the scope of the order, see the appendix to this notice.

Countervailing Duty Order

On May 5, 2022, in accordance with section 705(d) of the Act, the ITC notified Commerce of its final determination in this investigation, in which it found that an industry in the United States is materially injured by reason of subsidized imports of organic soybean meal from India.³ Therefore, in accordance with section 705(c)(2) of the Act, Commerce is issuing the countervailing duty order. Because the ITC determined that imports of organic soybean meal from India are materially injuring a U.S. industry, unliquidated entries of such merchandise from India, entered or withdrawn from warehouse for consumption, are subject to the assessment of countervailing duties.

³ Id.; see also Organic Soybean from India, Inv. Nos. 701-TA-667 and 731-TA-1559, USITC Pub. 5321 (May 2022) (Final).

In accordance with section 706(a) of the Act, Commerce will direct U.S. Customs and Border Protection (CBP) to assess, upon further instruction by Commerce, countervailing duties on unliquidated entries of organic soybean meal from India. With the exception of entries occurring after the expiration of the provisional measures period and before the publication of the ITC's final affirmative injury determination, as further described below, countervailing duties will be assessed on unliquidated entries of organic soybean meal from India entered, or withdrawn from warehouse, for consumption on or after September 3, 2021, the date of publication of the Preliminary Determination in the Federal Register.⁴

⁴ See Organic Soybean Meal from India: Preliminary Affirmative Countervailing Duty Determination and Alignment of Final Determination with Final Antidumping Duty Determination, 86 FR 49514 (September 3, 2021) (Preliminary Determination), and accompanying Preliminary Decision Memorandum.

Suspension of Liquidation and Cash Deposits

In accordance with section 706 of the Act, Commerce will direct CBP to reinstitute the suspension of liquidation of organic soybean meal from India, effective the date of publication of the ITC's notice of final determinations in the Federal Register, and to assess, upon further instruction by Commerce pursuant to 706(a)(1) of the Act, countervailing duties for each entry of the subject merchandise in an amount based on the net countervailable subsidy rates. These instructions will remain in effect until further notice.

Commerce will also instruct CBP to require cash deposits equal to the amounts as indicated below. The all-others rate applies to all producers or exporters not specifically listed below.

Company | Subsidy rate (percent)
Bergwerff Organic India Private Limited ⁵ | 9.57
Shanti Worldwide * | 283.91
Shri Sumati Oil Industries Pvt. Ltd.* | 283.91
Navjyot International Pvt. Ltd.* | 283.91
Ish Agritech Pvt. Ltd.* | 283.91
Satguru Organics Pvt. Ltd.* | 283.91
Radiance Overseas * | 283.91
Swastik Enterprises * | 283.91
Soni Soya Products Limited * | 283.91
Raj Foods International * | 283.91
Vantage Organic Foods Pvt. Ltd.* | 283.91
Shree Bhagwati Oil Mill * | 283.91
Pragati Organics * | 283.91
All Others | 9.57
* Rate based on adverse facts available.

Provisional Measures

⁵ Commerce has found the following company to be cross-owned with Bergwerff Organic India Private Limited: Suminter India Organics Private Limited.

Section 703(d) of the Act states that the suspension of liquidation pursuant to an affirmative preliminary determination may not remain in effect for more than four months. In the underlying investigation, Commerce published the Preliminary Determination on September 3, 2022.⁶ Therefore, entries of organic soybean meal from India made on or after January 1, 2022, and prior to the date of publication of the ITC's final determination in the Federal Register, are not subject to the assessment of countervailing duties due to Commerce's discontinuation of the suspension of liquidation.

⁶ See Preliminary Determination.

In accordance with section 703(d) of the Act, Commerce instructed CBP to terminate the suspension of liquidation and to liquidate, without regard to countervailing duties, unliquidated entries of organic soybean meal from India entered, or withdrawn from warehouse, for consumption on or after January 1, 2022, the date on which the provisional countervailing duty measures expired, through the day preceding the date of publication of the ITC final injury determination in the Federal Register. Suspension of liquidation will resume on the date of publication of the ITC final injury determination in the Federal Register.

Establishment of the Annual Inquiry Service Lists

On September 20, 2021, Commerce published the final rule titled “Regulations to Improve Administration and Enforcement of Antidumping and Countervailing Duty Laws” in the Federal Register.⁷ On September 27, 2021, Commerce also published the notice titled “Scope Ruling Application; Annual Inquiry Service List; and Informational Sessions” in the Federal Register.⁸ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.⁹

⁷ See Regulations to Improve Administration and Enforcement of Antidumping and Countervailing Duty Laws, 86 FR 52300 (September 20, 2021) (Final Rule).

⁸ See Scope Ruling Application; Annual Inquiry Service List; and Informational Sessions, 86 FR 53205 (September 27, 2021) (Procedural Guidance).

⁹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.¹⁰

¹⁰ This segment will be combined with the ACCESS Segment Specific Information (SSI) field which will display he month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹¹ Accordingly, as stated above, the petitioners and the Government of India should submit their initial entry of appearance after publication of this notice in order to appear in the first annual inquiry service list. Pursuant to 19 CFR 351.225(n)(3), the petitioners and the Government of India will not need to resubmit their entries of appearance each year to continue to be included on the annual inquiry service list. However, the petitioners and the Government of India are responsible for making amendments to their entries of appearance during the annual update to the annual inquiry service list in accordance with the procedures described above.

¹¹ See Final Rule, 86 FR at 52335.

Notification to Interested Parties

This notice constitutes the countervailing duty order with respect to organic soybean meal from India, pursuant to section 706(a) of the Act. Interested parties can find a list of countervailing duty orders currently in effect at https://enforcement.trade.gov/stats/iastats1.html.

This order is issued and published in accordance with section 706(a) of the Act and 19 CFR 351.211(b).

Dated: May 10, 2022.
Lisa W. Wang,
Assistant Secretary for Enforcement and Compliance.

Appendix

Scope of the Order

The merchandise subject to the order is certified organic soybean meal. Certified organic soybean meal results from the mechanical pressing of certified organic soybeans into ground products known as soybean cake, soybean chips, or soybean flakes, with or without oil residues. Soybean cake is the product after the extraction of part of the oil from soybeans. Soybean chips and soybean flakes are produced by cracking, heating, and flaking soybeans and reducing the oil content of the conditioned product. “Certified organic soybean meal” is certified by the U.S. Department of Agriculture (USDA) National Organic Program (NOP) or equivalently certified to NOP standards or NOP-equivalent standards under an existing organic equivalency or recognition agreement.

Certified organic soybean meal subject to this order has a protein content of 34 percent or higher.

Organic soybean meal that is otherwise subject to this order is included when incorporated in admixtures, including but not limited to prepared animal feeds. Only the organic soybean meal component of such admixture is covered by the scope of this order.

The products covered by this order are currently classified under the following Harmonized Tariff Schedule of the United States (HTSUS) subheadings: 1208.10.0010 and 2304.00.0000. Certified organic soybean meal may also enter under HTSUS 2309.90.1005, 2309.90.1015, 2309.90.1020, 2309.90.1030, 2309.90.1032, 2309.90.1035, 2309.90.1045, 2309.90.1050, and 2308.00.9890.

The HTSUS subheadings and specifications are provided for convenience and customs purposes; the written description of the scope is dispositive.

[FR Doc. 2022-10481 Filed 5-13-22; 8:45 am]

BILLING CODE 3510-DS-P